DEPARTMENT OF LABOR

Employment and Training Administration

[TA-W-58,356]

The Rug Barn, Abbeville, SC; Notice of Termination of Investigation

Pursuant to section 221 of the Trade Act of 1974, as amended, an investigation was initiated on November 15, 2005 in response to a worker petition filed by a company official on behalf of workers at The Rug Barn, Abbeville, South Carolina.

The petitioner has requested that the petition be withdrawn. Consequently, the investigation has been terminated.

Signed at Washington, DC, this 13th day of December, 2005.
Richard Church,
Certifying Officer, Division of Trade Adjustment Assistance.

[FR Doc. E5-7954 Filed 12-27-05; 8:45 am]

BILLING CODE 4510-30-P